OFFICE OF NATIONAL DRUG CONTROL POLICY

Paperwork Reduction Act; Proposed Collection; Comment Request

AGENCY: Office of National Drug Control Policy.

ACTION: 60-Day notice and request for comments. Revision of Currently Approved Collection: Drug-Free Communities Support Program National Evaluation.

SUMMARY: The Office of National Drug Control Policy (ONDCP) intends to submit the following information collection request to the Office of Management and Budget for review and approval under the Paperwork Reduction Act of 1995 (Pub. L. 104-13, 44 U.S.C. Chapter 35).

DATES: ONDCP encourages and will accept public comments on or before 60 days after the date of this publication.

ADDRESS: Address all comments in writing within 60 days to Helen Hernandez. Facsimile and email are the most reliable means of communication. Ms. Hernandez's facsimile number is (202) 395-6641, and her email address is Hhernandez@ondcp.eop.gov. Mailing address is: Executive Office of the President, Office of National Drug Control Policy, Drug-Free Communities (DFC) Support Program, 750 17th Street NW., Washington, DC 20503. For further information, contact Ms. Hernandez at 202-395-6665.

Abstract: ONDCP administers the Drug-Free Communities (DFC) Support Program in partnership with the Substance Abuse and Mental Health Services Administration's (SAMHSA) Center for Substance Abuse Prevention (CSAP). The DFC Program has two primary goals: To reduce youth substance abuse, and to support community anti-drug coalitions by establishing, strengthening, and fostering collaboration among public and private agencies.

Under reauthorization legislation (21 U.S.C. 1702), Congress mandated evaluation of the DFC Program to determine its effectiveness in meeting objectives. In 2009, a contract was awarded to evaluate the DFC Program which used an existing web-based performance system, called the Coalition Online Management and Evaluation Tool (COMET) and the Coalition Classification Tool (CCT), to gather information from DFC grantees. The COMET data collection system will be used for FY 2014 DFC grantees and SAMHSA CSAP's Sober Truth on Preventing Underage Drinking Reauthorization Act (“STOP Act”) grantees. (STOP Act data collection is authorized and required by 42 U.S.C. 290bb-35b and Section 519B of the Public Health Service Act).

ONDCP will be awarding a contract for a DFC grant oversight system at the end of 2014, following a competitive request for proposals process. Currently, DFC grantees interact with multiple separate systems. ONDCP plans to have a newly improved grant oversight system with a data collection platform, which will replace the current COMET system. The development and implementation of the DFC grant system will strengthen ONDCP's continued oversight of the DFC program. The data collected will have minimal substantive changes compared to what is currently collected and the system for data collection is intended to be more user friendly to reduce the burden on grantees. For FY 2015 and 2016 grantees, ONDCP/DFC expects a similar data collection system to be fully functional for DFC data collection and STOP Act data collection.

ONDCP's Drug Free Communities office will continue to utilize the case study protocols previously approved by OMB to document coalition practices, successes and challenges. Approximately nine DFC grantees are selected each year to highlight in the case studies. The information from the case studies will be used to illustrate not only what works to reduce drug use in a community setting, but also how and why it works.

Type of Information Collection: Web-based data collection, surveys and interviews of DFC and Sober Truth on Preventing Underage Drinking (STOP) Act grantees.

Title: Drug-Free Communities (DFC) Support Program National Evaluation.

Frequency: Semi-annually by DFC and STOP Act Program Directors via COMET, and annually for DFC Program Directors and selected coalition members via the CCT. Case study interviews and electronic surveys of Program Directors and electronic surveys of selected coalition members will be accomplished one time. ONDCP plans to award a contract for the new data collection system at the end of 2014. For FY 2015 and 2016 grantees, ONDCP/DFC expects a similar data collection system to be fully functional for DFC data collection and STOP Act data collection.

Affected Public: DFC and STOP Act grantees.

Estimated Burden: ONDCP expects that the time required to complete each semi-annual report via COMET will be approximately five hours, and each CCT report will take approximately one hour to complete. Face to face interviews will take 1.5-2 hours and surveys will take approximately .25 hours each to complete. The estimated total amount of time required by all respondents over one year, including Program Directors and grantees to complete COMET, CCT, surveys, and interviews, is 9,680 hours. ONDCP estimates that DFC grantees will spend approximately the same amount or less when using the new DFC data collection system.

Goals: ONDCP intends to use the data of the DFC National Evaluation to assess the DFC Program's effectiveness in preventing and reducing youth substance use. Two primary objectives of the evaluation are to: (1) Regularly monitor, measure and analyze data in order to report on the progress of the DFC program and its grantees on program goals, and (2) providing technical assistance support to DFC grantees in effectively collecting and submitting data and in understanding the role of data in driving local coalition efforts.

Comment Request: ONDCP especially invites comments on: Whether the proposed data are proper for the functions of the agency; whether the information will have practical utility; the accuracy of ONDCP's estimate of the burden of the proposed collection of information, including the validity of the methodology and assumptions; ways to enhance the quality, utility, and clarity of the information to be collected; and, ways to ease the burden on proposed respondents, including the use of automated collection techniques or other forms of information technology. Comments will be accepted for sixty days.

Dated: November 25, 2014.
Daniel S. Rader,
Deputy General Counsel.

[FR Doc. 2014-28273 Filed 11-28-14; 8:45 am]

BILLING CODE 3280-F5-P